DEPARTMENT OF THE TREASURY

Office of the Comptroller of the Currency

[Docket ID OCC-2014-0023]

Mutual Savings Association Advisory Committee

AGENCY: Office of the Comptroller of the Currency (OCC), Department of the Treasury.

ACTION: Notice.

SUMMARY: The OCC has determined that the renewal of the charter of the OCC Mutual Savings Association Advisory Committee (MSAAC) is necessary and in the public interest. The OCC hereby gives notice of the renewal of the charter.

DATES: The charter of the OCC MSAAC has been renewed for a two-year period effective October 6, 2014.

FOR FURTHER INFORMATION CONTACT: Donna Deale, Designated Federal Officer, 202-649-5420, Office of the Comptroller of the Currency, 400 7th Street SW., Washington, DC 20219.

SUPPLEMENTARY INFORMATION: Notice of the renewal of the MSAAC charter is hereby given, with the approval of the Secretary of the Treasury, pursuant to section 10(a)(2) of the Federal Advisory Committee Act, 5 U.S.C. App. 2 (1988). The Comptroller of the Currency has determined that the renewal of the MSAAC charter is necessary and in the public interest in order to provide advice and information to the OCC concerning the current condition of mutual savings associations, the regulatory changes or other steps the OCC may be able to take to ensure the health and viability of mutual savings associations, and other issues of concern to existing mutual savings associations, all in accordance with the goals of Section 5(a) of the Home Owners' Loan Act, 12 U.S.C. 1464.

Dated: October 23, 2014.
Thomas J. Curry,
Comptroller of the Currency.

[FR Doc. 2014-25692 Filed 10-28-14; 8:45 am]

BILLING CODE 4810-33-P